DEPARTMENT OF ENERGY

Federal Energy Regulatory Commission

Combined Notice of Filings #1

Take notice that the Commission received the following electric corporate filings:

Docket Numbers: EC16-53-000.

Applicants: South Central MCN LLC.

Description: Application for Authorization Under Section 203 of the Federal Power Act of South Central MCN LLC.

Filed Date: 12/22/15.

Accession Number: 20151222-5335.

Comments Due: 5 p.m. ET 1/12/16.

Docket Numbers: EC16-54-000.

Applicants: Goal Line L.P., KES Kingsburg, L.P., Colton Power L.P.

Description: Application for Authorization of Disposition of Jurisdictional Facilities and Requests for Waivers, Confidential Treatment and Expedited Consideration of Goal Line L.P., et al.

Filed Date: 12/23/15.

Accession Number: 20151223-5125.

Comments Due: 5 p.m. ET 1/13/16.

Take notice that the Commission received the following electric rate filings:

Docket Numbers: ER10-1484-013.

Applicants: Shell Energy North America (US), L.P.

Description: Updated Market Power Analysis for the Southwest Power Pool Region of Shell Energy North America (US), L.P.

Filed Date: 12/22/15.

Accession Number: 20151222-5331.

Comments Due: 5 p.m. ET 2/22/16.

Docket Numbers: ER12-569-010; ER15-1925-003; ER15-2676-001; ER13-712-010; ER10-1849-009; ER11-2037-009; ER12-2227-009; ER10-1887-009; ER10-1920-011; ER10-1928-011; ER10-1952-009; ER10-1961-009; ER12-1228-011; ER14-2707-006; ER12-895-009; ER10-2720-011; ER11-4428-011; ER12-1880-010; ER15-58-004; ER14-2710-006; ER15-30-004; ER14-2708-007; ER14-2709-006; ER13-2474-005; ER11-4462-015; ER10-1971-024.

Applicants: Blackwell Wind, LLC, Breckinridge Wind Project, LLC, Cedar Bluff Wind, LLC, Cimarron Wind Energy, LLC, Elk City Wind, LLC, Elk City II Wind, LLC, Ensign Wind, LLC, FPL Energy Cowboy Wind, LLC, FPL Energy Oklahoma Wind, LLC, FPL Energy Sooner Wind, LLC, Gray County Wind Energy, LLC, High Majestic Wind Energy Center, LLC, High Majestic Wind II, LLC, Mammoth Plains Wind Project, LLC, Minco Wind Interconnection Services, LLC, Minco Wind, LLC, Minco Wind II, LLC, Minco Wind III, LLC, Palo Duro Wind Interconnection Services, LLC, Palo Duro Wind Energy, LLC, Seiling Wind Interconnection Services, LLC, Seiling Wind, LLC, Seiling Wind II, LLC, Steele Flats Wind Project, LLC, NEPM II, LLC, NextEra Energy Power Marketing, LLC.

Description: Triennial Market Power Update for the Southwest Power Pool Region of the NextEra Companies.

Filed Date: 12/22/15.

Accession Number: 20151222-5332.

Comments Due: 5 p.m. ET 2/22/16.

Docket Numbers: ER13-1923-003.

Applicants: Midcontinent Independent System Operator, Inc.

Description: Compliance filing: 2015-12-23_SERTP Order 1000 Compliance Filing to be effective 1/1/2015.

Filed Date: 12/23/15.

Accession Number: 20151223-5084.

Comments Due: 5 p.m. ET 1/13/16.

Docket Numbers: ER14-2866-004.

Applicants: Louisville Gas and Electric Company.

Description: Compliance filing: Revisions to Formula Rate Protocols to Attachment O to be effective 1/1/2015.

Filed Date: 12/23/15.

Accession Number: 20151223-5074.

Comments Due: 5 p.m. ET 1/13/16.

Docket Numbers: ER14-2875-002.

Applicants: UNS Electric, Inc.

Description: Compliance filing: Formula Rate Protocols Compliance Filing to be effective 11/14/2014.

Filed Date: 12/23/15.

Accession Number: 20151223-5001.

Comments Due: 5 p.m. ET 1/13/16.

Docket Numbers: ER15-1733-001.

Applicants: Southwest Power Pool, Inc.

Description: Compliance filing: 2nd Compliance Filing in ER15-1733 Revising Empire's Formula Rate Protocols to be effective 4/1/2015.

Filed Date: 12/22/15.

Accession Number: 20151222-5250.

Comments Due: 5 p.m. ET 1/12/16.

Docket Numbers: ER16-13-001.

Applicants: Southwest Power Pool, Inc.

Description: Tariff Amendment: Deficiency Response in ER16-13-Revisions to Att AE re Annual ARR Allocation to be effective 1/28/2016.

Filed Date: 12/23/15.

Accession Number: 20151223-5089.

Comments Due: 5 p.m. ET 1/13/16.

Docket Numbers: ER16-288-001.

Applicants: Entergy Services, Inc.

Description: Tariff Amendment: Entergy Services, Inc., Correction to Amended Service Agreements to be effective 11/8/2015.

Filed Date: 12/22/15.

Accession Number: 20151222-5257.

Comments Due: 5 p.m. ET 1/12/16.

Docket Numbers: ER16-335-001.

Applicants: Startrans IO, LLC.

Description: Tariff Amendment: Errata to 2016 TRBAA Filing to be effective 1/1/2016.

Filed Date: 12/22/15.

Accession Number: 20151222-5269.

Comments Due: 5 p.m. ET 1/4/16.

Docket Numbers: ER16-619-000.

Applicants: PJM Interconnection, L.L.C., Public Service Electric and Gas Company.

Description: Section 205(d) Rate Filing: PSEG submits revisions to Attach. H-10A re: Abandonment Incentive Rate Treatment to be effective 2/21/2016.

Filed Date: 12/22/15.

Accession Number: 20151222-5266.

Comments Due: 5 p.m. ET 1/12/16.

Docket Numbers: ER16-620-000.

Applicants: Safe Harbor Water Power Corporation.

Description: Section 205(d) Rate Filing: Amendment to the Safe Harbor PPA to be effective 12/22/2015.

Filed Date: 12/22/15.

Accession Number: 20151222-5282.

Comments Due: 5 p.m. ET 1/12/16.

Docket Numbers: ER16-621-000.

Applicants: Southern California Edison Company.

Description: Section 205(d) Rate Filing: GIA & Distribution Service Agreement Sunray Energy, LLC SEGS I Project to be effective 1/1/2016.

Filed Date: 12/23/15.

Accession Number: 20151223-5000.

Comments Due: 5 p.m. ET 1/13/16.

Docket Numbers: ER16-622-000.

Applicants: Southern California Edison Company.

Description: Section 205(d) Rate Filing: GIA and Distribution Service Agmt New-Indy Ontario, LLC to be effective 1/1/2016.

Filed Date: 12/23/15.

Accession Number: 20151223-5002.

Comments Due: 5 p.m. ET 1/13/16.

Docket Numbers: ER16-623-000.

Applicants: New York State Reliability Council, L.L.C., Whiteman Osterman & Hanna LLP.

Description: Informational filing of Installed Capacity Requirement for the New York Control Area of the New York State Reliability Council, L.L.C.

Filed Date: 12/22/15.

Accession Number: 20151222-5320.

Comments Due: 5 p.m. ET 1/12/16.

Docket Numbers: ER16-624-000.

Applicants: Midcontinent Independent System Operator, Inc., ITC Midwest LLC.

Description: Section 205(d) Rate Filing: 2015-12-23_SA 2728 MidAmerican-ITCM 1st Rev FSA (H021) to be effective 2/21/2016.

Filed Date: 12/23/15.

Accession Number: 20151223-5053.

Comments Due: 5 p.m. ET 1/13/16.

Docket Numbers: ER16-625-000.

Applicants: Southwest Power Pool, Inc.

Description: Section 205(d) Rate Filing: 2829R2 Midwest Energy & Westar Energy Meter Agent Agreement to be effective 12/1/2015.

Filed Date: 12/23/15.

Accession Number: 20151223-5054.

Comments Due: 5 p.m. ET 1/13/16.

Docket Numbers: ER16-626-000.

Applicants: Southwest Power Pool, Inc.

Description: Section 205(d) Rate Filing: 2986R1 KCP&L GMO and Entergy Services, Inc. Attachment AO to be effective 12/1/2015.

Filed Date: 12/23/15.

Accession Number: 20151223-5073.

Comments Due: 5 p.m. ET 1/13/16.

Docket Numbers: ER16-627-000.

Applicants: PJM Interconnection, L.L.C.

Description: Section 205(d) Rate Filing: Original SA No. 4323 (ISA); and Revised SA No. 4241 (CSA); Queue AA1-067 to be effective 11/24/2015.

Filed Date: 12/23/15.

Accession Number: 20151223-5080.

Comments Due: 5 p.m. ET 1/13/16.

Docket Numbers: ER16-628-000.

Applicants: Florida Power & Light Company.

Description: Section 205(d) Rate Filing: Florida Power & Light Company Market-Based Rate Request to be effective 2/22/2016.

Filed Date: 12/23/15.

Accession Number: 20151223-5082.

Comments Due: 5 p.m. ET 1/13/16.

Docket Numbers: ER16-629-000.

Applicants: Public Service Company of New Hampshire.

Description: Notice of Cancellation of Service Agreement No. 95 of Public Service Company of New Hampshire.

Filed Date: 12/23/15.

Accession Number: 20151223-5097.

Comments Due: 5 p.m. ET 1/13/16.

Docket Numbers: ER16-630-000.

Applicants: Arizona Public Service Company.

Description: Section 205(d) Rate Filing: Amendments to Rate Schedule 217 Exhibit B.ADA and PRS to be effective 2/22/2016.

Filed Date: 12/23/15.

Accession Number: 20151223-5126.

Comments Due: 5 p.m. ET 1/13/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 23, 2015.
Nathaniel J. Davis, Sr.,
Deputy Secretary.

[FR Doc. 2015-32827 Filed 12-29-15; 8:45 am]

BILLING CODE 6717-01-P